DEPARTMENT OF LABOR

Employment and Training Administration

[TA-W-37,607 and TA-W-37,607A]

Henry I. Siegel Co., Inc., Now Known as Durango Apparel Manufacturing, Inc., Bruceton, TN, and New York, NY; Amended Certification Regarding Eligibility To Apply for Worker Adjustment Assistance

In accordance with Section 223 of the Trade Act of 1974 (19 U.S.C. 2273) the Department of Labor issued a Certification of Eligibility to Apply for Worker Adjustment Assistance on May 16, 2000, applicable to workers of Henry I. Siegel Co., Inc., Bruceton, Tennessee. The notice was published in the Federal Register on June 8, 2000 (65 FR 36469).

At the request of the company, the Department reviewed the certification for workers of the subject firm. The workers are engaged in the production of men's and women's jeans, slacks and shorts. The company reports that in April, 2000, Henry I. Siegel Co., Inc. “became know as Durango Apparel Manufacturing, Inc.”. Information also shows that worker separations occurred at the New York, New York location of Henry I. Siegel Co., Inc. The New York, New York workers provide administrative support functions for the subject firms' production facilities including Bruceton, Tennessee which closed in June, 2000.

Accordingly, the Department is amending the certification determination to correctly identify the new title name to read “Henry I. Siegel Co., Inc., now known as Durango Apparel Manufacturing, Inc.”, Bruceton, Tennessee and to cover the workers at the subject firms' New York, New York location.

The intent of the Department's certification is to include all workers of Henry I. Siegel Co., Inc., now known as Durango Apparel Manufacturing, Inc. who were adversely affected by increased imports.

The amended notice applicable to TA-W-37,607 is hereby issued as follows:

All workers of Henry I. Siegel Co., Inc., now known as Durango Apparel Manufacturing, Inc., Bruceton, Tennessee (TA-W-37,607) and New York, New York (TA-W-37,607A) who became totally or partially separated from employment on or after April 30, 2000 through May 16, 2002 are eligible to apply for adjustment assistance under Section 223 of the Trade Act of 1974.

Signed at Washington, DC, this 7th day of September, 2000.
Edward A. Tomchick,
Director, Division of Trade Adjustment Assistance.

[FR Doc. 00-23931 Filed 9-15-00; 8:45 am]

BILLING CODE 4510-30-M